DEPARTMENT OF TRANSPORTATION

Federal Highway Administration

Environmental Impact Statement: Lycoming County, Pennsylvania

AGENCY: Federal Highway Administration (FHWA), DOT.

ACTION: Notice of Intent.

SUMMARY: The FHWA is issuing this notice to advise the public that an Environmental Impact Statement will be prepared for a proposed highway project in Woodward Township and Piatt Township in Lycoming County, Pennsylvania.

FOR FURTHER INFORMATION CONTACT: David W. Cough, P.E., Director of Operations, Federal Highway Administration, 228 Walnut Street, Room 536, Harrisburg, Pennsylvania 17101-1720, Telephone: (717) 221-3411; —OR— Eric E. High, P.E., Special Projects Coordinator, Pennsylvania Department of Transportation, District 3-0, 715 Jordan Avenue, P.O. Box 218, Montoursville, Pennsylvania 17754-0218, Telephone: (570) 368-4258.

SUPPLEMENTARY INFORMATION: The FHWA, in cooperation with the Pennsylvania Department of Transportation (PennDOT), will prepare an Environmental Impact Statement (EIS) to identify and evaluate alternatives for improvements to the U.S. Route 220 corridor between Williamsport and Jersey Shore in Lycoming County, Pennsylvania. The proposed action would consist of improvements to U.S. Route 220 between and including its interchanges with PA Route 44 (Main Street) in Jersey Shore and Route 2014 (West Fourth Street) in Williamsport. The approximate project length from the east-west is approximately 13 kilometers (8 miles). Included in the overall project will be the identification of a range of alternatives that meet the identified project needs and supporting environmental documentation and alaysis to recommend a selected alternative for implementation. A complete public involvement program is included as part of the project.

Documentation of the need for the project will be prepared. This process will identify the need for roadway improvements through the study area based on local and regional transportation demand, system linkage and continuity, geometry criteria, safety, and local and regional planning.

Alternatives that will be considered may include, but will not be limited to: No Build; transportation system management (TSM) upgrade of the existing facility for short-term improvements; upgrade of existing roadway network, construction of a new roadway on a new alignment, or a mixture of the upgrade and new alignment alternatives for long-term improvements. These alternatives will be the basis for recommendation of alternatives to be carried forward for detailed environmental and engineering studies in the EIS.

Letters describing the proposed action and soliciting comments will be sent to appropriate Federal, State, and Local agencies, and to public/private organizations and citizens who express interest in this proposal. Public meetings will be held in the area throughout the study process. Public involvement and agency coordination will be maintained throughout the development of the EIS.

To ensure that the full range of issues related to this proposed action are addressed and all significant issues identified, comments and suggestions are invited from all interested parties. Comments or questions concerning this proposed action and the EIS should be directed to FHWA or PennDOT at the addresses provided above.

(Catalog of Federal Domestic Assistance Program Number 20.205, Highway Planning and Construction. The regulations implementing Executive Order 12372 regarding intergovernmental consultation on Federal programs and activities apply to this program.)

Issued on: June 9, 2000.
James A. Cheatham,
FHWA Division Administrator, Harrisburg, Pennsylvania.

[FR Doc. 00-15611 Filed 6-20-00; 8:45 am]

BILLING CODE 4910-22-M